DEPARTMENT OF AGRICULTURE

Submission for OMB Review; Comment Request

September 29, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Peer Review Related Forms for the Office of Scientific Quality Review.

OMB Control Number: 0518-0028.

Summary of Collection: The Office of Scientific Quality Review (OSQR) oversees peer review of Agricultural Research Service (ARS) research plans in response to Congressional mandate in the Agricultural Research Extension, and Education Reform Act of 1998 (Pub. L. 105-185, Section 103d). The ARS peer-review panels are scientists who review current scientific research projects.

Need and Use of the Information: ARS will collect the following information: confidentiality agreement, panelist information, peer review of an ARS research project, critique of ARS research project, panelist expense report, and panelist invoice. The information is used to manage the travel and stipend payments to panel reviewers and provide well-organized feedback to ARS' researchers about their projects. If information were not collected, ARS would not meet the administrative or legislative requirements of the Peer Review Process as mandated by Public Law 105-185.

Description of Respondents: Individuals or households.

Number of Respondents: 160.

Frequency of Responses: Reporting: Quarterly; Weekly; Annually.

Total Burden Hours: 3,053.

Ruth Brown,
Departmental Information Collection Clearance Officer.

[FR Doc. E9-23871 Filed 10-2-09; 8:45 am]

BILLING CODE 3410-03-P